DEPARTMENT OF DEFENSE

GENERAL SERVICES ADMINISTRATION

NATIONAL AERONAUTICS AND SPACE ADMINISTRATION

[OMB Control No. 9000-0145]; [Docket 2016-0053; Sequence 7]

Submission for OMB Review; Use of Data Universal Numbering System (DUNS) as Primary Contractor Identification

AGENCY: Department of Defense (DOD), General Services Administration (GSA), and National Aeronautics and Space Administration (NASA).

ACTION: Notice of request for public comments regarding an extension to an existing OMB clearance.

SUMMARY: Under the provisions of the Paperwork Reduction Act Regulatory Secretariat Division will be submitting to the Office of Management and Budget (OMB) a request to review and approve an extension of a previously approved information collection requirement concerning use of the Data Universal Numbering System (DUNS) as primary contractor identification. The DUNS number is the nine-digit identification number assigned by Dun and Bradstreet Information Services to an establishment. A notice was published in the Federal Register at 81 FR 6860 on February 9, 2016. Two respondents submitted eight comments that were received.

DATES: Submit comments on or before May 26, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 9000-0145, Use of Data Universal Numbering System (DUNS) as Primary Contractor Identification”. Follow the instructions provided at the “Submit a Comment” screen. Please include your name, company name (if any), and “Information Collection 9000-0145, Use of Data Universal Numbering System (DUNS) as Primary Contractor Identification” on your attached document.

• Mail: General Services Administration, Regulatory Secretariat Division (MVCB), 1800 F Street NW., Washington, DC 20405. ATTN: Ms. Flowers/IC 9000-0145, Use of Data Universal Numbering System (DUNS) as Primary Contractor Identification.

Instructions: Please submit comments only and cite Information Collection 9000-0145, Use of Data Universal Numbering System (DUNS) as Primary Contractor Identification, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Curtis E. Glover, Sr., Procurement Analyst, Office of Governmentwide Acquisition Policy, GSA 202-501-1448 or via email at curtis.glover@gsa.gov.

SUPPLEMENTARY INFORMATION:

A. Purpose

The Data Universal Numbering System (DUNS) number is the nine-digit identification number assigned by Dun and Bradstreet Information Services to an establishment. The Government uses the DUNS number to identify contractors in reporting to the Federal Procurement Data System (FPDS). The FPDS provides a comprehensive mechanism for assembling, organizing, and presenting contract placement data for the Federal Government. Federal agencies report data on all contracts in excess of the micro-purchase threshold to the Federal Procurement Data Center which collects, processes, and disseminates official statistical data on Federal contracting. Contracting officers insert the Federal Acquisition Regulation (FAR) provision at 52.204-6, Data Universal Numbering System (DUNS) Number, in solicitations they expect will result in contracts in excess of the micro-purchase threshold and do not contain FAR 52.204-7, Central Contractor Registration. The majority of offerors submit their DUNS through CCR as required by FAR 52.204-7, and not under the FAR provision at 52.204-6.

B. Discussion and Analysis

Two respondents submitted eight public comments on the extension of the previously approved information collection. The analysis of the public comments is summarized as follows:

Comment: The respondent called on the Administration to replace the system it now uses to track bidders on federal contracts with a more open, efficient, and nonproprietary system, the Global Legal Entity Identifier (LEI). The respondent also called on the Administration to require contract bidders to identify the real people who own or control them—the beneficial owners.

Response: The respondent's comments are outside the scope of this information collection.

Comment: The respondent urged the Administration to make public the beneficial owners of bidding firms. The Administration can do this without Congressional action, and it would be a major step toward making the procurement process more fair.

Response: The respondent's comments are outside the scope of this information collection.

Comment: The respondent stated that the U.S. government had the right to know who's bidding on federal contracts. Contracting officers need to know who is bidding to safeguard the use of taxpayer dollars. Legitimate businesses need to know who is bidding if they're to complete for contracts fairly.

Response: The respondent's comments are outside the scope of this information collection.

Comment: The respondent called on the Administration to encourage Congress to pass the Incorporation Transparency and Law Enforcement Act (ITLEAA), legislation that would require the collection of the beneficial owners of the companies incorporated in all 50 states and for the information to remain updated.

Response: The respondent's comments are outside the scope of this information collection.

Comment: The respondent stated that requiring U.S. businesses to disclose beneficial owners will neither burden them, nor undermine their ability to compete globally. In fact, disclosing beneficial owners will create more competitive markets.

Response: The respondent's comments are outside the scope of this information collection.

Comment: The respondent commented that the U.S. government should meaningfully engage civil society in a transparent process when exploring alternatives to existing entity identifiers.

Response: The respondent's comments are outside the scope of this information collection.

Comment: The respondent commented that the U.S. government should move to a non-proprietary identifier such as the Global Legal Entity Identifier (LEI) or a similar, open system that provides visibility spanning the entire hierarchy of entity ownership and includes information on the real people who own or control them (often called “beneficial owners”).

Response: The respondent's comments are outside the scope of this information collection.

Comment: The respondent commented that bidders for Federal Contracts and grants should be required to disclose information on their beneficial owners.

Response: The respondent's comments are outside the scope of this information collection.

C. Annual Reporting Burden

Respondents: 22,070.

Responses Per Respondent: 3.

Annual Responses: 66,210.

Hours per Response: .1666.

Total Burden Hours: 11,031.

Affected Public: Businesses or other for-profit and not-for-profit institutions.

Frequency: On occasion.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control Number 9000-0145, Use of Data Universal Numbering System (DUNS) as Primary Contractor Identification, in all correspondence.

Dated: April 20, 2016.
Lorin S. Curit,
Director, Federal Acquisition Policy Division, Office of Governmentwide Acquisition Policy, Office of Acquisition Policy, Office of Governmentwide Policy.

[FR Doc. 2016-09549 Filed 4-25-16; 8:45 am]

BILLING CODE 6820-EP-P